DEPARTMENT OF ENERGY

Federal Energy Regulatory Commission

[Project No. 10821-005]

Pacific Gas & Electric Company; Notice of Application Accepted for Filing and Soliciting Motions To Intervene and Protests

Take notice that the following application has been filed with the Commission and is available for public inspection.

a. Type of Application: Subsequent License—Transmission Line Only.

b. Project No.: P-10821-005.

c. Date filed: June 27, 2019.

d. Applicant: Pacific Gas & Electric Company (PG&E).

e. Name of Project: Camp Far West Transmission Line Project.

f. Location: The existing transmission line project, with the proposed modification, would be located in Placer and Yuba Counties, California. The project would occupy a total of 52.3 acres and would include tribal land (Auburn Off-Reservation Land Trust) managed by the U.S. Department of the Interior, Bureau of Indian Affairs and federal land (Beale Air Force Base) managed by the U.S. Department of Defense.

g. Filed Pursuant to: Federal Power Act, 16 U.S.C. 791 (a)-825(r).

h. Applicant Contact: Mr. Robert Donovan, Senior Transmission Planner, Pacific Gas & Electric Company, 245 Market Street, Room 1053B, Mail Code N10A, San Francisco, California 94105.

i. FERC Contact: Quinn Emmering, (202) 502-6382, quinn.emmering@ferc.gov.

j. Deadline for filing motions to intervene and protests and requests for cooperating agency status: 60 days from the issuance date of this notice.

The Commission strongly encourages electronic filing. Please file motions to intervene and protests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-10821-005.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted, but is not ready for environmental analysis at this time.

l. Project Description: The existing Camp Far West Transmission Line Project (P-10821) is a transmission line-only project and does not generate power. The project serves as the primary transmission line for South Sutter Water District's Camp Far West Hydroelectric Project No. 2997. The licensed project includes a 1.9-mile-long, three-phase, 60-kilovolt (kV) transmission line extending from the powerhouse of the Camp Far West Hydroelectric Project to an interconnection with PG&E's Smartville-Lincoln 60-kV transmission line.

PG&E proposes to connect the project's licensed 1.9-mile-long transmission line to an existing 9-mile-long, northbound segment of the Smartville-Lincoln transmission line that connects to the Smartville-Nicholas No. 1 transmission line at Beale Air Force Base. Because the 9-mile-long northbound segment of the Smartville-Lincoln transmission line would only carry electricity transmitted by the project, PG&E proposes to incorporate the 9-mile-segment into any subsequent license issued for the project.

m. A copy of the application is available for review at the Commission in the Public Reference Room or may be viewed on the Commission's website at http://www.ferc.gov using the eLibrary link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

n. Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

All filings must (1) bear in all capital letters the title PROTEST or MOTION TO INTERVENE; (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

o. Procedural schedule: The application will be processed according to the following schedule. Revisions to the schedule will be made as appropriate.

Deadline for Filing Motions to Intervene and Protests and Requests for Cooperating Agency Status | October 21, 2019
Commission issues Scoping Document 1 | November 2019
Scoping Comments due | December 2019
Commission issues Request for Additional Information (if necessary) | January 2020
Commission issues Scoping Document 2 (if necessary) | February 2020
Commission issues Notice of Ready for Environmental Analysis | February 2020
Commission issues EA, Draft EA, or Draft EIS | August 2020
Comments on EA, Draft EA, or Draft EIS due | September 2020
Commission issues Final EA or Final EIS | December 2020

Dated: August 22, 2019.
Kimberly D. Bose,
Secretary.

[FR Doc. 2019-18542 Filed 8-27-19; 8:45 am]

BILLING CODE 6717-01-P